DEPARTMENT OF HEALTH AND HUMAN SERVICES

Centers for Disease Control and Prevention

National Center for Environmental Health/Agency for Toxic Substances and Disease Registry

The Program Peer Review Subcommittee (PPRS) of the Board of Scientific Counselors (BSC), Centers for Disease Control And Prevention (CDC), National Center for Environmental Health/Agency for Toxic Substances and Disease Registry (NCEH/ATSDR): Meeting.

In accordance with section 10(a)(2) of the Federal Advisory Committee Act (Pub. L. 92-463), CDC, NCEH/ATSDR announces a meeting of the subcommittee.

Time and Date: 5 p.m.-7 p.m. Eastern Standard Time, December 5, 2006.

Place: Hilton Atlanta Hotel, 255 Courtland Street, Atlanta, Georgia 30303.

Status: Open to the public, limited by the available space. The meeting room accommodates approximately 50 people.

Purpose: Under the charge of the BSC, NCEH/ATSDR, the PPRS will provide the BSC, NCEH/ATSDR with advice and recommendations on NCEH/ATSDR program peer review. They will serve the function of organizing, facilitating, and providing a long-term perspective to the conduct of NCEH/ATSDR program peer review.

Matters to Be Discussed: A review of the history of Program Peer Reviews, current structure and process for reviews; discussion of functional reviews versus programmatic reviews; a review of questionnaires developed by the Subcommittee; a report on the status of two upcoming reviews; and an update on the Five Year Forecasting Timetable for Reviews at NCEH/ATSDR.

Agenda items are subject to change as priorities dictate.

Due to programmatic matters, this Federal Register Notice is being published on less than 15 calendar days notice to the public (41 CFR 102-3.150(b)).

Contact Person for More Information: Sandra Malcom, Committee Management Specialist, Office of Science, NCEH/ATSDR, M/S E-28, 1600 Clifton Road, NE., Atlanta, Georgia 30333, telephone 404-498-0622.

The Director, Management Analysis and Services Office, has been delegated the authority to sign Federal Register notices pertaining to announcements of meetings and other committee management activities for both CDC and ATSDR.

Dated: November 13, 2006.
Alvin Hall,
Director, Management Analysis and Services Office, Centers for Disease Control and Prevention.

[FR Doc. 06-9272 Filed 11-16-06; 8:45 am]

BILLING CODE 4163-18-P